ENVIRONMENTAL PROTECTION AGENCY

[FRL-9951-39-Region 10]

Issuance of National Pollutant Discharge Elimination System (NPDES) General Permit (GP) for Idaho Drinking Water Treatment Facilities

AGENCY: Environmental Protection Agency (EPA).

ACTION: Notice of availability.

SUMMARY: The Director, Office of Water and Watersheds, Environmental Protection Agency (EPA) is publishing notice of availability of the final NPDES GP (IDG380000) to drinking water treatment facilities in Idaho. The GP authorizes discharges of treated wastewater from water treatment filtration processes and their delivery systems to waters of the United States within the State of Idaho. On April 25, 2016, EPA proposed the GP and there was a 30 day comment period. During the comment period, EPA received comments on the draft permit but no changes to the permit were necessary based on the comments received.

DATES: The issuance date of the GP is the date of publication of this notice. The GP will be effective on November 1, 2016.

ADDRESSES: The GP, Fact Sheet and Response to Comments may be found on the Region 10 Web site at https://yosemite.epa.gov/r10/water.nsf/NPDES+Permits/Current+ID1319. Copies of the GP and Response to Comments are available upon request. Written requests for copies of the documents may be submitted to EPA, Region 10, 1200 Sixth Avenue, Suite 900, OWW-191, Seattle, WA 98101.

Electronic requests may be emailed to: washington.audrey@epa.gov or shum.kai@epa.gov.

FOR FURTHER INFORMATION CONTACT: Kai Shum at (206) 553-0060, shum.kai@epa.gov.

SUPPLEMENTARY INFORMATION: EPA requested final certification under the Clean Water Act § 401 from the State of Idaho and Tribal governments. EPA received certification from the Idaho Department of Environmental Quality in a letter dated July 28, 2016, that the subject discharges comply with the applicable provisions of Sections 301, 302, 303, 306 and 307 of the Clean Water Act, the Idaho Water Quality Standards (WQS) (IDAPA 58.01.02), and other appropriate water quality requirements of state law.

Executive Order 12866: The Office of Management and Budget has exempted this action from the review requirements of Executive Order 12866 pursuant to Section 6 of that order.

Regulatory Flexibility Act: Under the Regulatory Flexibility Act (RFA), 5 U.S.C. 601 et seq., a Federal agency must prepare an initial regulatory flexibility analysis “for any proposed rule” for which the agency “is required by section 553 of the Administrative Procedure Act (APA), or any other law, to publish general notice of proposed rulemaking.” The RFA exempts from this requirement any rule that the issuing agency certifies “will not, if promulgated, have a significant economic impact on a substantial number of small entities.” EPA has concluded that NPDES general permits are permits, not rulemakings, under the APA and thus not subject to APA rulemaking requirements or the RFA. Notwithstanding that general permits are not subject to the RFA, EPA has determined that these general permits, as issued, will not have a significant economic impact on a substantial number of small entities.

Dated: August 16, 2016.
Daniel D. Opalski,
Director, Office of Water & Watersheds, Region 10.

[FR Doc. 2016-20322 Filed 8-23-16; 8:45 am]

BILLING CODE 6560-50-P